DEPARTMENT OF COMMERCE

National Oceanic and Atmospheric Administration

[Docket No. 960223046-0042-05; I.D. 101299G]

RIN 0648-ZA09

Proposed FY 2001 Scope and Funding Priorities for Financial Assistance for Research and Development Projects to Strengthen and Develop the U.S. Fishing Industry

AGENCY: National Marine Fisheries Service (NMFS), National Oceanic and Atmospheric Administration (NOAA), Commerce.

ACTION: Notification of proposed priorities; request for comments.

SUMMARY: NMFS (hereinafter referred to as “we” or “us”) issues this document to describe the proposed scope and funding priorities for the Saltonstall-Kennedy (S-K) Grant Program for fiscal year (FY) 2001 and to ask interested members of the public (“you”) for comments. This is not a solicitation for grant applications.

DATES: We must receive your comments by close of business March 13, 2000, in the office listed in ADDRESSES.

ADDRESSES: Send comments to: Alicia L. Jarboe, S-K Program Manager, Financial Services Division (F/SF2), 1315 East West Highway, Silver Spring, MD 20901.

FOR FURTHER INFORMATION CONTACT: Alicia L. Jarboe, S-K Program Manager, (301) 713-2358.

SUPPLEMENTARY INFORMATION:

Introduction

Under the S-K Grant Program, we provide financial assistance on a competitive basis for research and development projects that address various aspects of U.S. fisheries (commercial or recreational). We solicit applications once each year through a notice published in the Federal Register. Applicants have 60 days from the date that notice is published to submit applications. This document is not a solicitation for applications.

We expect to publish the next solicitation notice for the S-K Program around March 15, 2000. That solicitation will seek applications for FY 2001, which begins on October 1, 2000. That notice will describe the scope and funding priorities, as well as eligibility requirements, application instructions, and the deadline for applying.

To be considered for possible funding, applications must propose activities that address one of the published funding priorities within the scope of the program. However, the S-K Program does not fund projects that primarily involve infrastructure construction, port and harbor development, or start-up or operational costs for private business ventures.

We invite you to comment on any aspect of the proposed scope and priorities for FY 2001, especially whether the priorities are sufficiently detailed and specific as to the types of proposals sought.

To obtain information about the S-K Program and other related documents mentioned in this notice, you can contact the NMFS Regional Administrator located at any office listed here:

Northeast Region, NMFS, One Blackburn Drive, Gloucester, MA 01930; (978) 281-9267.

Southeast Region, NMFS, 9721 Executive Center Drive, North, St. Petersburg, FL 33702-2432, (727) 570-5324.

Southwest Region, NMFS, 501 West Ocean Boulevard, Suite 4200, Long Beach, CA 90802-4213, (562) 980-4033.

Northwest Region, NMFS, 7600 Sand Point Way, N.E., BIN C15700, Building 1, Seattle, WA 98115, (206) 526-6115.

Alaska Region, NMFS, P.O. Box 21668, Juneau, AK 99802 or Federal Building, 709 West 9th Street, 4th Floor, Juneau, AK 99801-1668, (907) 586-7224.

Background

The Saltonstall-Kennedy Act (S-K Act), as amended (15 U.S.C. 713c-3), established a fund (known as the S-K fund) that the Secretary of Commerce uses to provide grants or cooperative agreements for fisheries research and development projects addressed to any aspect of U.S. fisheries, including, but not limited to, harvesting, processing, marketing, and associated infrastructures. U.S. fisheries ¹ include any fishery, commercial or recreational, that is or may be engaged in by citizens or nationals of the United States, or citizens of the Northern Mariana Islands, the Republic of the Marshall Islands, Republic of Palau, and the Federated States of Micronesia.

¹ For purposes of this document, a fishery is defined as one or more stocks of fish, including tuna, and shellfish that are identified as a unit based on geographic, scientific, technical, recreational and economic characteristics, and any and all phases of fishing for such stocks. Examples of a fishery are Alaskan groundfish, Pacific whiting, New England whiting, and eastern oysters.

The objectives of the S-K Grant Program, and, therefore, the funding priorities, have changed over the years since the program began in 1980. The program has evolved as Federal fishery management laws and policies, and research needs, have evolved in response to changing circumstances.

The original focus of the program was to develop underutilized fisheries within the U.S. Exclusive Economic Zone (EEZ). This focus was driven in part by the Magnuson-Stevens Fishery Conservation and Management Act (Magnuson-Stevens Act). The Magnuson-Stevens Act, originally passed in 1976, directed us to give the domestic fishing industry priority access to the fishery resources in the EEZ. In 1980, the American Fisheries Promotion Act amended the S-K Act to stimulate commercial and recreational fishing efforts in underutilized fisheries. The competitive S-K Program that was initiated as a result included fisheries development and marketing as funding priorities.

In the following years, the efforts to Americanize the fisheries were successful to the point that most nontraditional species were fully developed and some traditional fisheries became overfished. Therefore, we changed the emphasis of the S-K Program to address conservation and management issues and aquaculture.

In 1996, the Sustainable Fisheries Act (SFA) (Public Law 104-297), was enacted. The SFA amended the Magnuson-Stevens Act and supported further adjustment to the S-K Program to address the current condition of fisheries.

The Magnuson-Stevens Act, as amended by the SFA, requires us to undertake efforts to prevent overfishing, rebuild overfished fisheries, insure conservation, protect essential fish habitats, and realize the full potential of U.S. fishery resources. It further requires that we take into account the importance of fishery resources to fishing communities; provide for the sustained participation of such communities; and, to the extent possible, minimize the adverse economic impacts of conservation and management measures on such communities. The Magnuson-Stevens Act defines a “fishing community” as “a community which is substantially dependent on or substantially engaged in the harvest or processing of fishery resources to meet social and economic needs, and includes fishing vessel owners, operators, and crew and United States fish processors that are based in such community.” (16 U.S.C. 1802(16)). We have refocused the S-K Program to address the needs of fishing communities as defined by the Magnuson-Stevens Act.

The NOAA Strategic Plan, updated in 1998, has also shaped the S-K Program. The Strategic Plan has three goals under its Environmental Stewardship Mission: Build Sustainable Fisheries (BSF), Recover Protected Species, and Sustain Healthy Coasts. The fisheries research and development mission of the S-K Program directly relates to the BSF goal. There are three BSF objectives in the Strategic Plan:

1. Eliminate and prevent overfishing and overcapitalization.

2. Attain economic sustainability in fishing communities.

3. Develop environmentally and economically sound marine aquaculture.

The goal of the FY 2001 S-K Grant Program will be to address the needs of fishing communities in terms of the preceding BSF objectives. This goal is reflected in the proposed funding priorities. These are similar to the priorities for the FY 2000 S-K Program (64 FR 33050). However, for FY 2001 we propose to limit the scope of the priorities to only federally managed species. Up to now, we have accepted applications that addressed Great Lakes as well as marine species, and species under state management plans. While many worthwhile proposals have been funded for non-federally managed species in the past, the available funds are expected to be inadequate to cover every important and deserving project.

The amount allocated for the S-K Program has declined from over $9.8 million in FY 1996 to $1.9 million for FY 2000. We expect to fund no more than 20 proposals from the FY 2000 program. The Administration's request for the FY 2001 program is also $1.9 million.

In proposing the program scope and priorities, we also considered the availability of other sources of funding for fisheries research and development. For example, we propose to limit the funding priority for aquaculture to only the off-shore marine environment, not land-based or near-shore aquaculture, which are the focus of programs of the U.S. Department of Agriculture and the NOAA National Sea Grant College Program. We would accept only those applications that directly relate to eventually establishing aquaculture in the off-shore environment, or to minimizing barriers to such development.

Electronic Access Addresses

The FY 2000 solicitation and this document requesting comments on the FY 2001 priorities are available on the NMFS S-K Home Page at: www.nmfs.gov/sfweb/skhome.html. The FY 2001 solicitation, when published, will be available at the same site.

The 1998 updated Executive Summary of the NOAA Strategic Plan is available at: www.strategic.noaa.gov/ and the Magnuson-Stevens Act (as amended through October 11, 1996) is available at: www.nmfs.gov/sfa/magact/.

The list of species that are currently under Federal Fishery Management Plans (FMPs) is in the publication, Status of Fisheries of the United States, available at: www.nmfs.gov/sfa/reports.html.

If you are unable to access the electronic addresses listed in this section, this information can also be obtained from any of the NMFS offices listed in this document (see ADDRESSES).

Proposed Scope and Funding Priorities

The scope of the FY 2001 S-K Program will be limited to federally managed marine species. (We will not accept applications dealing with Great Lakes species or state-managed species.) The proposed priorities listed are not in any particular order and each is of equal importance.

A. Conservation Engineering

Reduce or eliminate adverse interactions (that affect fishing activity) between fishing operations and nontargeted, protected, or prohibited species, including the inadvertent take, capture, or destruction of such species. These include juvenile or sublegal-sized fish and shellfish, females of certain crabs, fish listed under the Endangered Species Act, marine turtles, seabirds, or marine mammals.

Improve the survivability of fish discarded or intentionally released and of protected species released in fishing operations.

Reduce or eliminate impacts of fishing activity on essential fish habitat that adversely affect the sustainability of the fishery.

B. Optimum Utilization of Harvested Fishery Resources Currently Under Federal Management

Reduce or eliminate factors such as diseases, human health hazards, and quality problems that limit the marketability of federally managed species and their products, in the United States and abroad.

Minimize harvest losses of federally managed species.

Develop usable products from economic discards (whole fish discarded because they are an undesirable species, size, or sex, or parts of fish discarded as not commercially useful) and byproducts of processing of federally managed species.

C. Fishing Community Transition

Help fishing communities to address the socioeconomic effects of overfishing and overcapitalized fisheries through such activities as planning and demonstration projects. Specific areas for these activities could include retraining of fishermen for alternative employment, alternative uses for existing fishing industry infrastructure, and planning for fishing capacity reduction. Activities may complement, but should not duplicate, programs available from other Federal, state, or local agencies.

D. Marine Aquaculture in the Off-Shore Environment

Advance the implementation of marine aquaculture in the off-shore environment (i.e., the EEZ) by addressing technical aspects such as systems engineering, environmental compatibility, and culture technology. Applications must demonstrate that the goal is to support off-shore industry development.

Reduce or eliminate legal and social barriers to off-shore aquaculture development, e.g., legal constraints, use conflicts, exclusionary mapping, and appropriate institutional roles.

Development of FY 2001 S-K Grant Program

We will consider any comments we receive in response to this notice in developing the solicitation notice for the FY 2001 S-K Program. We expect to publish the notice of program in the Federal Register around March 15, 2000. Even though we are publishing this request for comments we are not required to solicit applications for the FY 2001 S-K Program.

Catalog of Federal Domestic Assistance

The S-K Grant Program is listed in the “Catalog of Federal Domestic Assistance” under number 11.427, Fisheries Development and Utilization Research and Development Grants and Cooperative Agreements Program.

Dated: February 16, 2000.
Penelope D. Dalton,
Assistant Administrator for Fisheries, National Marine Fisheries Service.

[FR Doc. 00-4474 Filed 2-24-00; 8:45 am]

BILLING CODE 3510-22-P